DEPARTMENT OF COMMERCE

National Oceanic and Atmospheric Administration

RIN 0648-XD464

North Pacific Fishery Management Council; Public Meeting

AGENCY: National Marine Fisheries Service (NMFS), National Oceanic and Atmospheric Administration (NOAA), Commerce.

ACTION: Notice of public meetings.

SUMMARY: The North Pacific Fishery Management Council (Council) Observer Advisory Committee (OAC) will meet in Seattle, WA.

DATES: The meetings will be held on September 18, 2014, from 8:30 a.m. to 5 p.m., and September 19, 2014, from 8:30 a.m. to 12:30 p.m.

ADDRESSES: The meetings will be held at the Alaska Fishery Science Center, 7600 Sand Point Way NE., Building 4, Observer Training Room, Seattle, WA.

Council address: North Pacific Fishery Management Council, 605 W. 4th Ave., Suite 306, Anchorage, AK 99501-2252.

FOR FURTHER INFORMATION CONTACT: Diana Evans, Council staff; telephone: (907) 271-2809.

SUPPLEMENTARY INFORMATION: The agenda items include introductions and update, review and recommendations on the draft 2015 Observer Annual Deployment Plan, review of progress on regulatory amendments and other analytical projects, and scheduling and other issues.

The Agenda is subject to change, and the latest version will be posted at http://www.npfmc.org/.

Although non-emergency issues not contained in this agenda may come before these groups for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: August 27, 2014.
Tracey L. Thompson,
Acting Deputy Director, Office of Sustainable Fisheries, National Marine Fisheries Service.

[FR Doc. 2014-20752 Filed 8-29-14; 8:45 am]

BILLING CODE 3510-22-P